DEPARTMENT OF THE INTERIOR

Fish and Wildlife Service

[FWS-R7-SM-2016-N033; FXRS12610700000-156-FF07J00000; FBMS#4500089778]

Information Collection Request Sent to the Office of Management and Budget (OMB) for Approval; Federal Subsistence Regulations and Associated Forms

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on February 29, 2016. We may not conduct or sponsor and a person is not required to respond to a collection of information unless it displays a currently valid OMB control number. However, under OMB regulations, we may continue to conduct or sponsor this information collection while it is pending at OMB.

DATES: You must submit comments on or before March 25, 2016.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS BPHC, 5275 Leesburg Pike, Falls Church, VA 22041-3803 (mail), or hope_grey@fws.gov (email). Please include “1018-0075” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION:

Information Collection Request

OMB Control Number: 1018-0075.

Title: Federal Subsistence Regulations and Associated Forms, 50 CFR 100 and 36 CFR 242.

Service Form Number: FWS Forms 3-2321, 3-2322, 3-2323, 3-2326, 3-2327, 3-2328, 3-2378, and 3-2379.

Type of Request: Extension of a currently approved collection.

Description of Respondents: Individuals; private sector; and State, local, and tribal governments. Most respondents are individuals who are federally defined rural residents in Alaska.

Respondent's Obligation: Required to obtain or retain a benefit.

Frequency of Collection: On occasion.

Form/activity | Number of respondents | Number of responses | Completion time per response | Total annual burden hours ¹
3-2321—Membership Application | 76 | 76 | 2 hours | 152
3-2322—Applicant Interview | 76 | 76 | 30 minutes | 38
3-2323—Reference/Contact Interview | 189 | 189 | 15 minutes | 47
3-2326—Hunt Application and Permit | 11,141 | 11,141 | 10 minutes | 1,857
3-2326—Hunt Report | 11,141 | 11,141 | 5 minutes | 928
3-2327- Designated Hunter Application and Permit | 701 | 701 | 10 minutes | 117
3-2327—Designated Hunter—Hunt Report | 701 | 701 | 5 minutes | 58
3-2328—Fishing Application and Permit | 2,136 | 2,136 | 10 minutes | 356
3-2328—Fishing Report | 2,136 | 2,136 | 5 minutes | 178
3-2378—Designated Fishing Application and Permit | 58 | 58 | 10 minutes | 10
3-2378—Designated Fishing Report | 58 | 58 | 5 minutes | 5
3-2379—Customary Trade Recordkeeping Application and Permit | 18 | 18 | 10 minutes | 3
3-2379—Customary Trade Recordkeeping—Report | 18 | 18 | 5 minutes | 2
Petition to Repeal | 1 | 1 | 2 hours | 2
Proposed Changes | 70 | 70 | 30 minutes | 35
Special Actions Request | 17 | 17 | 30 minutes | 9
Request for Reconsideration (Appeal) | 741 | 741 | 4 hours | 2,964
Traditional/Cultural/Educational Permits and Reports | 5 | 5 | 30 minutes | 3
Fishwheel, Fyke Net, and Under-Ice Permits and Reports | 7 | 7 | 15 minutes | 2
Totals | 29,290 | 29,290 |  | 6,766
¹ Rounded.

Estimated Annual Nonhour Burden Cost: None.

Abstract: The Alaska National Interest Lands Conservation Act (ANILCA) and regulations in the Code of Federal Regulations (CFR) at 50 CFR part 100 and 36 CFR part 242 require that persons engaged in taking fish, shellfish, and wildlife on public lands in Alaska for subsistence uses must apply for and obtain a permit to do so and comply with reporting provisions of that permit. We use the following forms to collect information from qualified rural residents for subsistence harvest:

(1) FWS Form 3-2326 (Federal Subsistence Hunt Application, Permit, and Report).

(2) FWS Form 3-2327 (Designated Hunter Permit Application, Permit, and Report).

(3) FWS Form 3-2328 (Federal Subsistence Fishing Application, Permit, and Report).

(4) FWS Form 3-2378 (Designated Fishing Permit Application, Permit, and Report).

(5) FWS Form 3-2379 (Federal Subsistence Customary Trade Recordkeeping Form).

We use the information collected to evaluate:

• Eligibility of applicant.

• Subsistence harvest success.

• Effectiveness of season lengths, harvest quotas, and harvest restrictions.

• Hunting patterns and practices.

• Hunter use.

The Federal Subsistence Board uses the harvest data, along with other information, to set future season dates and harvest limits for Federal subsistence resource users. These seasons and harvest limits are set to meet the needs of subsistence users without adversely impacting the health of existing animal populations.

Also included in this ICR are three forms associated with recruitment and selection of members for regional advisory councils.

(1) FWS Form 3-2321 (Federal Subsistence Regional Advisory Council Membership Application/Nomination).

(2) FWS Form 3-2322 (Regional Advisory Council Candidate Interview).

(3) FWS Form 3-2323 (Regional Advisory Council Reference/Key Contact Interview).

The member selection process begins with the information that we collect on the application. Ten interagency review panels interview all applicants and nominees, their references, and regional key contacts. These contacts are all based on the information that the applicant provides on the application form. The information that we collect through the application form and subsequent interviews is the basis of the Federal Subsistence Board's recommendations to the Secretaries of the Interior and Agriculture for appointment and reappointment of council members.

In addition to the above forms, regulations at 50 CFR part 100 and 36 CFR part 242 contain requirements for the collection of information. We collect nonform information on:

(1) Repeal of Federal subsistence rules and regulations (50 CFR 100.14 and 36 CFR 242.14).

(2) Proposed changes to Federal subsistence regulations (50 CFR 100.18 and 36 CFR 242.18).

(3) Special action requests (50 CFR 100.19 and 36 CFR 242.19).

(4) Requests for reconsideration (50 CFR 100.20 and 36 CFR 242.20).

(5) Requests for permits and reports, such as traditional religious/cultural/educational permits, fishwheel permits, fyke net permits, and under-ice permits (50 CFR 100.25-27 and 36 CFR 242.25-27).

Comments Received and Our Responses

Comments: On October 15, 2015, we published in the Federal Register (80 FR 62091) a notice of our intent to request that OMB renew approval for this information collection. In that notice, we solicited comments for 60 days, ending on December 14, 2015. We did not receive any comments in response to that notice.

Request for Public Comments

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB and us in your comment to withhold your personal identifying information from public review, we cannot guarantee that it will be done.

Dated: February 19, 2016.
Tina A. Campbell,
Chief, Division of Policy, Performance, and Management Programs, U.S. Fish and Wildlife Service.

[FR Doc. 2016-03819 Filed 2-23-16; 8:45 am]

BILLING CODE 4333-15-P